DEPARTMENT OF COMMERCE

International Trade Administration

[A-580-815 and A-580-816]

Certain Cold-Rolled Carbon Steel Flat Products and Certain Corrosion-Resistant Carbon Steel Flat Products From Korea; Extension of Time Limit

AGENCY: Import Administration, International Trade Administration, Department of Commerce.

ACTION: Notice of extension of time limit.

SUMMARY: The Department of Commerce (the Department) is extending the time limit for the preliminary results of the antidumping duty administrative reviews of Certain Cold-Rolled Carbon Steel Flat Products & Certain Corrosion-Resistant Carbon Steel Flat Products from Korea. These reviews cover the period August 1, 1999 through July 31, 2000.

EFFECTIVE DATE: January 30, 2001.

FOR FURTHER INFORMATION CONTACT: Marlene Hewitt or Jim Doyle, Office of AD/CVD Enforcement, Group III, Import Administration, International Trade Administration, U.S. Department of Commerce, 14th Street and Constitution Avenue, NW., Washington, DC; telephone (202) 482-1385 or 482-0159, respectively.

SUPPLEMENTARY INFORMATION: Due to the complexity of issues involved in these cases, it is not practicable to complete these reviews within the original time limit. The Department is extending the time limit for completion of the preliminary results from May 3, 2001 until August 31, 2001, in accordance with section 751(a)(3)(A) of the Tariff Act of 1930, as amended. See memorandum to Joseph A. Spetrini from Edward Yang regarding the extension of the case deadline. The time limit for the final results would remain at 120 days after the preliminary results are issued. This extension is in accordance with section 751(a)(3)(A) of the Tariff Act of 1930, as amended (19 U.S.C. Sec. 1675 (a)(3)(A)).

Dated: January 18, 2001.
Joseph A. Spetrini,
Deputy Assistant Secretary, Enforcement Group III.

[FR Doc. 01-2511 Filed 1-29-01; 8:45 am]

BILLING CODE 3510-DS-P